DEPARTMENT OF ENERGY

Notice of Request for Information (RFI) Regarding Challenges and Opportunities at the Interface of Wind Turbines and Radar Technology

AGENCY: Office Energy Efficiency and Renewable Energy, Wind Energy Technologies Office, Department of Energy.

ACTION: Request for information (RFI).

SUMMARY: The U.S. Department of Energy (DOE) invites public comment on its request for information (RFI) number DE-FOA-0003166 regarding mitigation strategies for the technical and operational effects of wind turbines on critical radar missions, as required by the Infrastructure Investment and Jobs Act also known as the Bipartisan Infrastructure Law (BIL).

DATES: Responses to the RFI must be received by January 12, 2024.

ADDRESSES: Comments to the RFI must be provided in writing. Interested parties are to submit their written comments electronically to windenergyrfi@ee.doe.gov and include “Comment on RFI: Challenges & Opportunities at the Interface of Wind Turbines and Radar Technology” in the subject line of the email. Email attachments can be provided as a Microsoft Word (.docx) file or an Adobe PDF (.pdf) file, prepared in accordance with the detailed instructions in the RFI. Documents submitted electronically should clearly indicate which topic areas and specific questions are being addressed and should be limited to no more than 25 MB in size. The complete RFI DE-FOA-0003166 document is located at https://eere-exchange.energy.gov/.

FOR FURTHER INFORMATION CONTACT: Hannah Taylor, hannah.taylor@ee.doe.gov, (240) 220-8077.

Further instructions can be found in the RFI document DE-FOA-0003166 posted on EERE Exchange at https://eere-exchange.energy.gov/.

SUPPLEMENTARY INFORMATION: DOE's Office of Energy Efficiency and Renewable Energy, on behalf of the Wind Energy Technologies Office and in collaboration with the Wind Turbine-Radar Interference Mitigation (WTRIM) Working Group, issued this RFI to seek public input to help inform DOE's implementation of the BIL. The WTRIM Working Group has been working to identify and develop the means to mitigate the technical and operational effects of wind turbines on critical radar missions. This RFI represents the latest effort by the WTRIM Working Group to better understand the challenges wind developers are facing regarding radar interference and to determine the capability of the marketplace to find solutions that mitigate the impact of wind turbine interference on existing and future radar systems.

Specific questions can be found in the RFI. The RFI DE-FOA-0003166 is available at: https://eere-exchange.energy.gov/.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority: This document of the Department of Energy was signed on November 6, 2023, by Dr. Becca Jones-Albertus, Deputy Assistant Secretary for Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 8, 2023.
Treena V. Garrett,
Federal Register Liaison Officer, U.S. Department of Energy.

[FR Doc. 2023-25029 Filed 11-13-23; 8:45 am]

BILLING CODE 6450-01-P